FEDERAL ACCOUNTING STANDARDS ADVISORY BOARD

Notice of Meetings

AGENCY: Federal Accounting Standards Advisory Board.

ACTION: Notice of meetings for 2004.

Board Action:

Pursuant to 31 U.S.C. 3511(d), the Federal Advisory Committee Act (Pub. L. 92-463), as amended, and the FASAB Rules Of Procedure, as amended in October 1999, notice is hereby given that the Federal Accounting Standards Advisory Board (FASAB) will meet on the following dates in room 7C13 of the GAO Building unless otherwise noted:

—Wednesday and Thursday, March 3 and 4, 2004

—Wednesday and Thursday, April 28 and 29, 2004

—Friday, June 25, 2004, 1-4 p.m.

—Wednesday, June 30, 2004, 1-4 p.m. at the Marriott Wardman Park Hotel, 2660 Woodley Road, NW., Washington, DC

—Thursday, July 1, 2004, 1-4 p.m.

—Wednesday and Thursday, August 25 and 26, 2002

—Wednesday and Thursday, October 20 and 21, 2004

—Wednesday and Thursday, December 15 and 16, 2004

The purposes of the meetings are to discuss issues related to:

—FASAB's conceptual framework,

—Stewardship Reporting,

—Social Insurance,

—Natural Resources,

—Inter-entity Costs,

—Technical Agenda, and

—Any other topics as needed.

A more detailed agenda can be obtained from the FASAB Web site (http://www.fasab.gov) one week prior to each meeting.

Any interested person may attend the meetings as an observer. Board discussion and reviews are open to the public. GAO Building security requires advance notice of your attendance. Please notify FASAB of your planned attendance by calling 202-512-7350 at least one day prior to the respective meeting.

FOR FURTHER INFORMATION CONTACT: Wendy M. Comes, Executive Director, 441 G St., NW., Mail Stop 6K17V, Washington, DC 20548, or call (202) 512-7350.

Authority: Federal Advisory Committee Act. Pub. L. 92-463.

Dated: November 19, 2003.
Wendy M. Comes,
Executive Director.

[FR Doc. 03-29292 Filed 11-21-03; 8:45 am]

BILLING CODE 1610-01-M